FEDERAL COMMUNICATIONS COMMISSION

47 CFR Part 64

[WC Docket No. 02-112, CC Docket No. 00-175 and WC Docket No. 06-120; FCC 07-159]

Section 272(f)(1) Sunset of the BOC Separate Affiliate and Related Requirements; 2000 Biennial Regulatory Review Separate Affiliate Requirements of Section 64.1903 of the Commission's Rules; Petition of AT&T Inc. for Forbearance Under 47 U.S.C. 160(c) With Regard to Certain Dominant Carrier Regulations for In-Region, Interexchange Services

AGENCY: Federal Communications Commission.

ACTION: Final rule.

SUMMARY: On September 24, 2008, the Office of Management and Budget (OMB) approved, for a period of three years, the information collections for the service quality measurement plan for interstate special access and monthly usage requirements associated with the Commission's Section 272(f)(1) Sunset of the BOC Separate Affiliate and Related Requirements; 2000 Biennial Regulatory Review Separate Affiliate Requirements of Section 64.1903 of the Commission's Rules; Petition of AT&T Inc. for Forbearance Under 47 U.S.C. 160(c) with Regard to Certain Dominant Carrier Regulations for In-Region, Interexchange Services, Report and Order and Memorandum Opinion and Order, FCC 07-159 (released Aug. 31, 2007) (Report and Order). These information collection requirements required OMB approval in order to become effective.

DATES: On September 24, 2008, the Office of Management and Budget approved the information collections for the service quality measurement plan for interstate special access and monthly usage requirements adopted in the Report and Order published at 72 FR 58021, October 12, 2007.

FOR FURTHER INFORMATION CONTACT: Heather Hendrickson, Competition Policy Division, Wireline Competition Bureau, at (202) 418-7295.

SUPPLEMENTARY INFORMATION: This document announces that, on September 24, 2008, OMB approved, for a period of three years, certain information collection requirements for the service quality measurement plan for interstate special access and monthly usage requirements contained in the Commission's Report and Order, FCC 07-159, published at 72 FR 58021, October 12, 2007. The OMB Control Number is 3060-1120. The Commission publishes this notice as an announcement of that approval. If you have any comments on the burden estimates listed below, or how the Commission can improve the collections and reduce any burdens caused thereby, please contact Thomas Butler, Federal Communications Commission, Room 5-C457, 445 12th Street, SW., Washington, DC 20554. Please include the OMB Control Number, 3060-1120, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on September 24, 2008, for the information collection requirements for the service quality measurement plan for interstate special access and monthly usage requirements associated with the Report and Order. The OMB Control Number is 3060-1120. The total annual reporting burden for respondents for these collections of information, including the time for gathering and maintaining the collection of information, is estimated to be: 3 respondents, 48 responses, total annual burden hours of 3,000 hours, and no annual costs.

Under 5 CFR 1320, an agency may not conduct or sponsor a collection of information unless it displays a current, valid OMB Control Number.

No person shall be subject to any penalty for failing to comply with a collection of information subject to the Paperwork Reduction Act, which does not display a current, valid OMB Control Number.

The foregoing notice is required by the Paperwork Reduction Act of 1995, Public Law 104-13, October 1, 1995, and 44 U.S.C. 3507.

Federal Communications Commission.
Marlene H. Dortch,
Secretary.

[FR Doc. E9-1256 Filed 1-23-09; 8:45 am]

BILLING CODE 6712-01-P